DEPARTMENT OF THE TREASURY

Office of Foreign Assets Control

31 CFR Part 554

Burundi Sanctions Regulations

AGENCY: Office of Foreign Assets Control, Treasury.

ACTION: Final rule.

SUMMARY: The Department of the Treasury's Office of Foreign Assets Control (OFAC) is removing from the Code of Federal Regulations the Burundi Sanctions Regulations as a result of the termination of the national emergency on which the regulations were based.

DATES: This rule is effective February 11, 2022.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treasury.gov/ofac.

Background

On November 22, 2015, the President, invoking the authority of, inter alia, the International Emergency Economic Powers Act (50 U.S.C. 1701-1706) (IEEPA), issued Executive Order (E.O.) 13712, “Blocking Property of Certain Persons Contributing to the Situation in Burundi” (80 FR 73633, November 25, 2015). In E.O. 13712, the President found that the situation in Burundi, which had been marked by the killing of and violence against civilians, unrest, incitement of imminent violence, and significant political repression, and which threatened the peace, security, and stability of Burundi, constituted an unusual and extraordinary threat to the national security and foreign policy of the United States, and declared a national emergency to deal with that threat.

On April 6, 2016, OFAC issued the Burundi Sanctions Regulations, 31 CFR part 554 (81 FR 19878, April 6, 2016) (the “Regulations”), as a final rule to implement E.O. 13712. The Regulations were issued in abbreviated form for the purpose of providing immediate guidance to the public.

On November 18, 2021, the President issued E.O. 14054, “Termination of Emergency With Respect to the Situation in Burundi” (86 FR 66149, November 19, 2021). In E.O. 14054, the President found that the situation that gave rise to the declaration of a national emergency in E.O. 13712 with respect to the situation in Burundi had been significantly altered by events of the past year, including the transfer of power following elections in 2020, significantly decreased violence, and President Ndayishimiye's pursuit of reforms across multiple sectors. Accordingly, the President terminated the national emergency declared in E.O. 13712 and revoked that order.

As a result, OFAC is removing the Regulations from the Code of Federal Regulations. Pursuant to section 202(a) of the National Emergencies Act (50 U.S.C. 1622(a)) and section 2 of E.O. 14054, termination of the national emergency declared in E.O. 13712 shall not affect any action taken or proceeding pending not finally concluded or determined as of November 18, 2021 (the date of E.O. 14054), any action or proceeding based on any act committed prior to the date of E.O. 14054, or any rights or duties that matured or penalties that were incurred prior to the date of E.O. 14054.

Public Participation

Because the Regulations involve a foreign affairs function, the provisions of E.O. 12866 of September 30, 1993, “Regulatory Planning and Review” (58 FR 51735, October 4, 1993), and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The Paperwork Reduction Act does not apply because this rule does not impose information collection requirements that would require the approval of the Office of Management and Budget under 44 U.S.C. 3501 et seq.

List of Subjects in 31 CFR Part 554

Administrative practice and procedure, Banks, banking, Blocking of assets, Brokers, Burundi, Credit, Foreign trade, Investments, Loans, Sanctions, Securities, Services.

PART 554—[REMOVED]

For the reasons set forth in the preamble, and pursuant to 50 U.S.C. 1601-1651 and E.O. 14054 (86 FR 66149, November 19, 2021), OFAC amends 31 CFR chapter V by removing part 554.

Andrea M. Gacki,
Director, Office of Foreign Assets Control.

[FR Doc. 2022-02949 Filed 2-10-22; 8:45 am]

BILLING CODE 4810-AL-P